DEPARTMENT OF HOUSING AND URBAN DEVELOPMENT

[Docket No. FR-5285-N-29]

Notice of Proposed Information Collection: Comment Request; Neighborhood Networks Management and Tracking Data Collection Instruments

AGENCY: Office of the Assistant Secretary for Housing, HUD.

ACTION: Notice.

SUMMARY: The proposed information collection requirement described below will be submitted to the Office of Management and Budget (OMB) for review, as required by the Paperwork Reduction Act. The Department is soliciting public comments on the subject proposal.

DATES: Comments Due Date: November 9, 2009.

ADDRESSES: Interested persons are invited to submit comments regarding this proposal. Comments should refer to the proposal by name and/or OMB Control Number and should be sent to: Lillian Deitzer, Departmental Reports Management Officer, QDAM, Department of Housing and Urban Development, 451 7th Street, SW., Washington, DC 20410; e-mail Lillian_L._Deitzer@HUD.gov or telephone (202) 402-8048.

FOR FURTHER INFORMATION CONTACT: Delores A. Pruden, Director, Neighborhood Networks, Office of Housing Assistance Contract Administration Oversight, Multifamily Housing Programs, Department of Housing and Urban Development, 451 7th Street, SW., Washington, DC 20410, telephone (202) 402-2496 (this is not a toll free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Neighborhood Networks Data Collection Management and Tracking Data Collection Instruments.

OMB Control Number, if applicable: 2502-0553.

Description of the need for the information and proposed use: The Office of Multifamily Housing Programs is requesting OMB Clearance to: (1) Update Neighborhood Networks centers' data via a semi-annual electronic postcard collection of information. This data collection will be used to update the Neighborhood Networks contact database and HUD's Directory of Neighborhood Networks Centers; and (2) Enhance the Neighborhood Networks Strategic Tracking and Reporting Tool (START) including the Center Classification Tool. This information collection will continue to inform HUD of centers' progress and needs and support center directors and staff in their planning, program development, and implementation and overall performance assessment.

START allows a center to electronically create and update its business plan and center profiles, and is a necessary tool to gather quantifiable demographic information as a basis for ongoing technical assistance for center directors and staff and HUD field staff. Center classification data will ensure effectiveness in creating programs and services that promote self-sufficiency among residents of HUD Multifamily FHA-insured and -assisted housing properties.

Agency form numbers, if applicable: None.

Estimation of the total numbers of hours needed to prepare the information collection including number of respondents, frequency of response, and hours of response: The number of burden hours is 728 hours. The number of respondents is approximately 738; the number of responses is 1,338; the frequency of response is annually, semi annually, and on occasion; and the burden hour per response is 5.5 hours.

Status of the proposed information collection: Revision of a currently approved collection.

Authority: The Paperwork Reduction Act of 1995, 44 U.S.C., Chapter 35, as amended.

Dated: September 1, 2009.
Ronald Y. Spraker,
Acting General Deputy Assistant Secretary for Housing—Federal Housing Commissioner.

[FR Doc. E9-21581 Filed 9-4-09; 8:45 am]

BILLING CODE 4210-67-P